DEPARTMENT OF COMMERCE

International Trade Administration

[A-357-812, A-570-863]

Honey From Argentina and the People's Republic of China: Notice of Postponement of Preliminary Determinations of Antidumping Duty Investigations

AGENCY: Import Administration, International Trade Administration, Department of Commerce.

ACTION: Notice of Postponement of Preliminary Antidumping Duty Determinations.

SUMMARY: The Department of Commerce (the Department) is postponing the preliminary determinations of the antidumping duty investigations on honey from Argentina and the People's Republic of China (the PRC). These investigations cover manufacturers and exporters of the subject merchandise to the United States during the period July 1, 1999 through June 30, 2000, for Argentina, and during the period January 1, 2000 through June 30, 2000, for the PRC. As a result of this extension, the deadline for issuing the preliminary determinations in these investigations is now May 4, 2001.

EFFECTIVE DATE: March 1, 2001.

FOR FURTHER INFORMATION CONTACT: Melissa Blackledge (Argentina) at (202) 482-3518, Angelica Mendoza (the PRC) at (202) 482-3019, or Charles Rast at (202) 482-1324 and Donna Kinsella at (202) 482-0194; Antidumping and Countervailing Duty Enforcement Group III, Office Eight, Import Administration, International Trade Administration, U.S. Department of Commerce, 14th Street and Constitution Avenue NW., Washington, DC 20230.

SUPPLEMENTARY INFORMATION:

Background

On October 26, 2000, the Department initiated antidumping duty investigations of honey from Argentina and the PRC for the period July 1, 1999 through June 30, 2000, for Argentina, and the period January 1, 2000 through June 30, 2000, for the PRC. (See Initiation of Antidumping Duty Investigations: Honey From Argentina and the People's Republic of China, 65 FR 65831-65834 (November 2, 2000).) The notice stated that the Department would issue its preliminary determinations no later than 140 days after the date of initiation, unless this deadline is extended.

Postponement of Preliminary Determinations

Pursuant to section 733(c)(1)(A) of the Tariff Act of 1930, as amended (the Act) and 19 CFR 351.205(e), on February 14, 2001, the petitioners filed a request that the Department postpone the honey determinations for Argentina and the PRC. The petitioners' request for postponement was timely, and the Department finds no compelling reason to deny the request.

Therefore, in accordance with section 733(c)(1)(A) of the Act, the Department is postponing the deadline for issuing the preliminary determinations of the aforementioned investigations until May 4, 2001.

This notice is published pursuant to section 733(c)(2) of the Tariff Act of 1930, as amended, and 19 CFR 351.205(f). Richard W. Moreland is temporarily fulfilling the duties of the Assistant Secretary for Import Administration.

Dated: February 22, 2001.
Richard W. Moreland,
Deputy Assistant Secretary, Import Administration.

[FR Doc. 01-5015 Filed 2-28-01; 8:45 am]

BILLING CODE 3510-DS-P